DEPARTMENT OF THE INTERIOR

Fish and Wildlife Service

50 CFR Part 17

RIN 1018-AH04

Endangered and Threatened Wildlife and Plants; Reopening of Public Comment Period and Notice of Availability of Draft Economic Analysis for Proposed Critical Habitat Determination for Chorizanthe pungens var. pungens (Monterey Spineflower)

AGENCY: Fish and Wildlife Service, Interior.

ACTION: Proposed rule; reopening of public comment period and notice of availability of draft economic analysis.

SUMMARY: We, the U.S. Fish and Wildlife Service (Service) announce the availability of a draft economic analysis for the proposed designation of critical habitat for the Monterey spineflower (Chorizanthe pungens var. pungens). We are also providing notice of the reopening of the public comment period for the proposal to designate critical habitat for this plant to allow all interested parties to comment simultaneously on the proposed rule and the associated draft economic analysis. Comments previously submitted need not be resubmitted as they already have been incorporated into the public record and will be fully considered in the final rule. Comments submitted during this comment period will also be incorporated into the public record and will be fully considered in the final rule.

DATES: The comment period is opened and we will accept comments until October 19, 2001. Comments must be received by 5:00 p.m. on the closing date. Any comments that are received after the closing date may not be considered in the final decision on this proposal.

ADDRESSES: Copies of the draft economic analysis are available on the Internet at “www.r1.fws.gov” or by writing to the Field Supervisor, U.S. Fish and Wildlife Service, Ventura Fish and Wildlife Office, 2493 Portola Road, Suite B, Ventura, California 93003. All written comments should be sent to the Field Supervisor at the above address. You may also send comments by electronic mail (e-mail) to “fw1montereysf@r1.fws.gov”. Please submit electronic comments in ASCII file format and avoid the use of special characters and encryption. Please include “Attn: RIN 1018-AH04” and your name and return address in your e-mail message. If you do not receive a confirmation from the system that we have received your e-mail message, contact us directly by calling our Ventura Fish and Wildlife Office at phone number 805-644-1766. Comments and materials received will be available for public inspection, by appointment, during normal business hours at the above Service address.

FOR FURTHER INFORMATION CONTACT: Catrina Martin, Assistant Field Supervisor, Ventura Fish and Wildlife Office, at the above address (telephone 805-644-1766; facsimile 805-644-3958).

SUPPLEMENTARY INFORMATION:

Background

Chorizanthe pungens var. pungens is endemic to sandy soils in coastal areas in southern Santa Cruz and northern Monterey counties, and in the Salinas Valley in interior Monterey County. In California, the spineflower genus (Chorizanthe) in the buckwheat family Polygonaceae comprises species of wiry annual herbs that inhabit dry sandy soils, both along the coast and inland. Because of the patchy and limited distribution of such soils, many species of Chorizanthe tend to be highly localized in their distributions.

The overall appearance of Chorizanthe pungens var. pungens is of a low-growing herb that is soft-hairy and grayish or reddish in color. The plant has a prostrate to slightly ascending habit, with large individuals reaching 50 centimeters (cm) (20 inches (in)) or more in diameter. This taxon is distinguished by white (rarely pinkish) scarious (membranous) margins on the lobes of the involucre (a whorl of bracts) that subtend the white- to rose-colored flowers. The aggregate of flowers (heads) tend to be small (less than 1 cm (0.4 in) in diameter) and either distinctly or indistinctly aggregate.

Chorizanthe pungens var. pungens is a short-lived annual species. It germinates during the winter months and flowers from April through June; although pollination ecology has not been studied for this taxon, C. p. var. pungens is likely visited by a wide array of pollinators; observations of pollinators on other species of Chorizanthe that occur in Santa Cruz County have included leaf cutter bees (megachilids), at least six species of butterflies, flies, and sphecid wasps (R. Morgan, biologist, Soquel, CA, pers. comm. 2000). Each flower produces one seed; depending on the vigor of an individual plant, dozens, if not hundreds of seeds could be produced. The importance of pollinator activity in seed set has been demonstrated by the production of seed with low viability where pollinator access was limited (Harding Lawson Associates 2000). Seed is collectable through August. The plants turn a rusty hue as they dry through the summer months, eventually shattering during the fall. Seed dispersal is facilitated by the spines on the involucre, which attach the seed to passing animals. While animal vectors most likely facilitate dispersal between colonies and populations, the prevailing coastal winds undoubtedly play a part in scattering seed within colonies and populations.

The locations where Chorizanthe pungens var. pungens occurs, with the exception of one (Soledad), are subject to a mild maritime climate, where fog helps keep summer temperatures cool and winter temperatures relatively warm, and provides moisture in addition to the normal winter rains. Chorizanthe pungens var. pungens is found in a variety of seemingly disparate habitat types, including active coastal dunes, grassland, scrub, chaparral, and woodland types on interior upland sites; and interior floodplain dunes. However, all of these habitat types include microhabitat characteristics that are suitable for C. p. var. pungens. First, all sites are on sandy soils; whether the origin of the soils are from active dunes, interior fossil dunes, or floodplain alluvium is apparently unimportant. Second, these sites are relatively open and free of other vegetation. In grassland and oak woodland communities, abundant annual grasses may outcompete C. p. var. pungens, while management of grass species, either through grazing, mowing or fire, may allow the spineflower to persist. In scrub and chaparral communities, C. p. var. pungens does not occur under dense stands, but will occur between more widely spaced shrubs.

Chorizanthe pungens var. pungens is generally distributed along the rim of Monterey Bay in southern Santa Cruz and northern Monterey counties, and inland along the coastal plain of the Salinas Valley. At coastal sites ranging from the Monterey Peninsula north to Manresa State Beach, C. p. var. pungens is found in active coastal dune systems, and on coastal bluffs upon which windblown sand has been deposited. On coastal dunes, the distribution of suitable habitat is subject to dynamic shifts caused by patterns of dune mobilization, stabilization, and successional trends in coastal dune scrub that increase in cover over time. Accordingly, individual colonies of Chorizanthe pungens var. pungens, found in gaps between stands of scrub, shift in distribution and size over time.

Portions of the coastal dune and coastal scrub communities that support Chorizanthe pungens var. pungens have been eliminated or altered by recreational use, industrial and urban development, and military activities. Dune communities have also been altered in composition by the introduction of non-native species, especially Carpobrotus species (sea-fig or iceplant) and Ammophila arenaria (European beachgrass), in an attempt to stabilize shifting sands. In the last decade, significant efforts have been made to restore native dune communities, including the elimination of these non-native species.

At more inland sites, Chorizanthe pungens var. pungens occurs on sandy, well-drained soils in a variety of plant communities, most frequently maritime chaparral, valley oak woodlands, and grasslands. The plant probably has been extirpated from a number of historical locations in the Salinas Valley, primarily due to conversion of the original grasslands and valley oak woodlands to agricultural crops (Reveal & Hardham 1989). Significant populations of C. p. var. pungens occur on lands that are referred to as former Fort Ord (U.S. Army Corps of Engineers 1992). Within grassland communities, C. p. var. pungens occurs along roadsides, in firebreaks, and in other disturbed sites, while in oak woodland, chaparral, and scrub communities, it occurs in sandy openings between shrubs. In older stands with a high cover of shrubs, the plants are restricted to roadsides, firebreaks, and trails that bisect these communities. At former Fort Ord, the highest densities of C. p. var. pungens are located in the central portion of the firing range, where disturbance is the most frequent. This pattern of distribution and densities of the C. p. var. pungens on former Fort Ord indicates that the very activities that have disturbed C. p. var. pungens habitat have also created the open conditions that result in high densities of the plant. Prior to onset of human use of this area, C. p. var. pungens may have been restricted to openings created by wildfires within these communities (Service 1998).

The southwestern edge of Chorizanthe pungens var. pungens habitat on former Fort Ord was once continuous with habitat found in the community of Del Rey Oaks and at the Monterey Airport (Deb Hillyard, ecologist, California Department of Fish and Game, pers. comm. 2000). Other inland sites that support C. p. var. pungens are located in the area between Aptos and La Selva Beach in Santa Cruz County, and near Prunedale in northern Monterey County.

Farther up the Salinas River, Chorizanthe pungens var. pungens was recently found on a dune located within the river floodplain near Soledad, Monterey County (CNDDB 2000). Two historic sites for C. p. var. pungens occur near here. One, near Mission Soledad, was collected once in 1881; the other, near San Lucas along the Salinas River, was collected once in 1935. Due to conversion to agriculture and channelization activities along the Salinas River over the last century, C. p. var. pungens has most likely been extirpated from these locations. The dune near Soledad is the only one of its size and extent between there and the river mouth (Brad Olsen, East Bay Regional Parks District, pers. comm. 2000).

Pursuant to the Endangered Species Act of 1973, as amended (Act), Chorizanthe pungens var. pungens was federally listed as threatened on February 4, 1994 (59 FR 5499). On February 15, 2001, we published in the Federal Register (66 FR 10440) a rule proposing critical habitat for the C. p. var. pungens. Approximately 10,400 hectares (25,000 acres) fall within the boundaries of the proposed critical habitat designation. Proposed critical habitat is located in Santa Cruz and Monterey counties, as described in the proposed rule.

Section 4(b)(2) of the Act requires that the Secretary shall designate or revise critical habitat based upon the best scientific and commercial data available and after taking into consideration the economic impact of specifying any particular area as critical habitat. Based upon the previously published proposal to designate critical habitat for the Monterey spineflower and comments received during the previous comment period, we have prepared a draft economic analysis of the proposed critical habitat designation. The draft economic analysis is available at the above Internet and mailing address.

Public Comments Solicited

We have reopened the comment period at this time in order to accept the best and most current scientific and commercial data available regarding the proposed critical habitat determination for the Monterey spineflower and the draft economic analysis of proposed critical habitat determination. Previously submitted written comments on this critical habitat proposal need not be resubmitted. We will accept written comments during this reopened comment period. The current comment period on this proposal closes on October 4, 2001. Written comments may be submitted to the Ventura Fish and Wildlife Office in the ADDRESSES section.

Author

The primary author of this notice is Connie Rutherford, U.S. Fish and Wildlife Service, 2493 Portola Road, Suite B, Ventura, California 93003 (see ADDRESSES section).

Authority: The authority for this action is the Endangered Species Act of 1973 (16 U.S.C. 1531 et seq.).

Dated: September 7, 2001.
Daniel S. Walsworth,
Acting Manager, California/Nevada Operations Office.

[FR Doc. 01-23248 Filed 9-18-01; 8:45 am]

BILLING CODE 4310-55-P